DEPARTMENT OF ENERGY

Federal Energy Regulatory Commission

[Docket No. EL04-131-000]

AEP Power Marketing, Inc., AEP Service Corporation, CSW Power Marketing, Inc., CSW Energy Services, Inc., Central and South West Services, Inc.; Notice Of Initiation Of Proceeding And Refund Effective Date

December 29, 2004.

On August 9, 2004, as amended on August 10, 2004, September 16, 2004 and November 19, 2004, American Electric Power Service Corporation, on behalf of AEP Power Marketing, Inc., AEP Service Corporation, CSW Power Marketing, Inc., CSW Energy Services, Inc., and Central and South West Services, Inc. (collectively, AEP) submitted for filing generation power market screens in compliance with the Commission's orders issued April 14, 2004 and July 8, 2004.

On December 17, 2004, the Commission issued an order addressing these filings in Docket Nos. ER96-2495-020, et al. (Not consolidated). The Commission's order institutes a proceeding in Docket No. EL04-131-000 under section 206 of the Federal Power Act with respect to the justness and reasonableness of AEP's market-based rates.

The refund effective date in Docket No. EL04-131-000, established pursuant to section 206(b) of the Federal Power Act will be 60 days following publication of this notice in the Federal Register.

Magalie R. Salas,
Secretary.

[FR Doc. E4-3936 Filed 1-4-05; 8:45 am]

BILLING CODE 6717-01-P